DEPARTMENT OF AGRICULTURE

Foreign Agricultural Service

Trade Adjustment Assistance for Farmers

AGENCY: Foreign Agricultural Service, USDA.

ACTION: Notice.

The Administrator, Foreign Agricultural Service (FAS) today accepted petitions filed by the Louisiana Shrimp Association, P.O. Box 1088, Grand Isle, Louisiana 70358, for trade adjustment assistance. The association represents shrimpers in the state of Louisiana. The Administrator will determine within 40 days whether or not imports of shrimp and prawns contributed importantly to a decline in domestic producer prices of 20 percent or more during the marketing period beginning January 2003 and ending December 2003. If the determination is positive, all shrimpers who land and market their shrimp in Louisiana will be eligible to apply to the Farm Service Agency for technical assistance at no cost and for adjustment assistance payments.

FOR FURTHER INFORMATION CONTACT: Jean-Louis Pajot, Coordinator, Trade Adjustment Assistance for Farmers, FAS, USDA, (202) 720-2916, e-mail: trade.adjustment@fas.usda.gov.

Dated: November 4, 2004.
A. Ellen Terpstra,
Administrator, Foreign Agricultural Service.

[FR Doc. 04-25602 Filed 11-17-04; 8:45 am]

BILLING CODE 3410-10-P